DEPARTMENT OF ENERGY

Federal Energy Regulatory Commission

Combined Notice of Filings

Take notice that the Commission has received the following Natural Gas Pipeline Rate and Refund Report filings:

Filings Instituting Proceedings

Docket Numbers: PR14-43-000.

Applicants: ETC Katy Pipeline, Ltd.

Description: Tariff filing per 284.123(e) + (g): Statement of Operating Conditions Update to be effective 8/1/2014; TOFC: 1280.

Filed Date: 7/31/14.

Accession Number: 20140731-5117.

Comments Due: 5 p.m. ET 8/21/14.

284.123(g) Protests Due: 5 p.m. ET 9/29/14.

Docket Numbers: PR14-44-000.

Applicants: Energy Transfer Fuel, LP.

Description: Tariff filing per 284.123(e) + (g): Statement of Operating Conditions Update to be effective 8/1/2014; TOFC: 1280.

Filed Date: 7/31/14.

Accession Number: 20140731-5131.

Comments Due: 5 p.m. ET 8/21/14.

284.123(g) Protests Due: 5 p.m. ET 9/29/14.

Docket Numbers: PR14-45-000.

Applicants: Oasis Pipeline, LP.

Description: Tariff filing per 284.123(e) + (g): Statement of Operating Conditions Update to be effective 8/1/2014; TOFC: 1280.

Filed Date: 7/31/14.

Accession Number: 20140731-5144.

Comments Due: 5 p.m. ET 8/21/14.

284.123(g) Protests Due: 5 p.m. ET 9/29/14.

Docket Numbers: PR14-46-000.

Applicants: Houston Pipe Line Company LP.

Description: Tariff filing per 284.123(e) + (g): Statement of Operating Conditions Update to be effective 8/1/2014; TOFC: 1280.

Filed Date: 7/31/14.

Accession Number: 20140731-5194.

Comments Due: 5 p.m. ET 8/21/14.

284.123(g) Protests Due: 5 p.m. ET 9/29/14.

Docket Numbers: RP14-1153-000.

Applicants: Gulf South Pipeline Company, LP.

Description: Cap Rel Neg Rate Agmt (QEP 36601 to Trans LA 42794) to be effective 8/1/2014.

Filed Date: 8/1/14.

Accession Number: 20140801-5047.

Comments Due: 5 p.m. ET 8/13/14.

Docket Numbers: RP14-1154-000.

Applicants: Gas Transmission Northwest LLC.

Description: FSA_Tariff Cleanup to be effective 9/1/2014.

Filed Date: 8/1/14.

Accession Number: 20140801-5056.

Comments Due: 5 p.m. ET 8/13/14.

Docket Numbers: RP14-1155-000.

Applicants: Wyoming Interstate Company, L.L.C.

Description: FL&U Filing to be effective 9/1/14 to be effective 9/1/2014.

Filed Date: 8/1/14.

Accession Number: 20140801-5081.

Comments Due: 5 p.m. ET 8/13/14.

Docket Numbers: RP14-1156-000.

Applicants: Nautilus Pipeline Company, L.L.C.

Description: Clean Up Filing to be effective 9/1/2014.

Filed Date: 8/1/14.

Accession Number: 20140801-5060.

Comments Due: 5 p.m. ET 8/13/14.

Docket Numbers: RP14-1157-000.

Applicants: WBI Energy Transmission, Inc.

Description: Tariff Revisions to be effective 9/1/2014.

Filed Date: 8/1/14.

Accession Number: 20140801-5072.

Comments Due: 5 p.m. ET 8/13/14.

Docket Numbers: RP14-1159-000.

Applicants: TransColorado Gas Transmission Company L.

Description: Pro Forma Update Filing to be effective 8/31/2014.

Filed Date: 8/1/14.

Accession Number: 20140801-5094.

Comments Due: 5 p.m. ET 8/13/14.

Docket Numbers: RP14-1160-000.

Applicants: WBI Energy Transmission, Inc.

Description: Non-conforming Service Agreement—Garden Creek II to be effective 8/1/2014.

Filed Date: 8/1/14.

Accession Number: 20140801-5141.

Comments Due: 5 p.m. ET 8/13/14.

Docket Numbers: RP14-1161-000.

Applicants: Columbia Gas Transmission, LLC.

Description: Negotiated & Non-Conforming Service Agmts—Commonwealth to be effective 9/1/2014.

Filed Date: 8/1/14.

Accession Number: 20140801-5167.

Comments Due: 5 p.m. ET 8/13/14.

Docket Numbers: RP14-1162-000.

Applicants: East Cheyenne Gas Storage, LLC.

Description: East Cheyenne Non-conforming Agreements 8-1-14 to be effective 9/1/2014.

Filed Date: 8/1/14.

Accession Number: 20140801-5207.

Comments Due: 5 p.m. ET 8/13/14.

Docket Numbers: RP14-1163-000.

Applicants: East Cheyenne Gas Storage, LLC.

Description: East Cheyenne Ratchett Tariff Revisions to be effective 9/1/2014.

Filed Date: 8/1/14.

Accession Number: 20140801-5209.

Comments Due: 5 p.m. ET 8/13/14.

Docket Numbers: RP14-1164-000.

Applicants: WBI Energy Transmission, Inc.

Description: Housekeeping Tariff Changes to be effective 9/1/2014.

Filed Date: 8/1/14.

Accession Number: 20140801-5214.

Comments Due: 5 p.m. ET 8/13/14.

Docket Numbers: RP14-1167-000.

Applicants: Sierrita Gas Pipeline LLC.

Description: Non-Conforming Firm Transportation Service Agreement Compliance filing associated with CP13-73, et. al. of Sierrita Gas Pipeline LLC.

Filed Date: 8/1/14.

Accession Number: 20140801-5216.

Comments Due: 5 p.m. ET 8/13/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-455-004.

Applicants: Panhandle Eastern Pipe Line Company, LP.

Description: Compliance with RP12-455 Reservation Charge CR to be effective 10/1/2014.

Filed Date: 8/1/14.

Accession Number: 20140801-5050.

Comments Due: 5 p.m. ET 8/13/14.

Docket Numbers: RP14-393-001.

Applicants: Columbia Gas Transmission, LLC.

Description: Commonwealth Settlement Implementation to be effective 9/1/2014.

Filed Date: 8/1/14.

Accession Number: 20140801-5065.

Comments Due: 5 p.m. ET 8/13/14.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2014.
Nathaniel J. Davis, Sr.,
Deputy Secretary.

[FR Doc. 2014-18935 Filed 8-8-14; 8:45 am]

BILLING CODE 6717-01-P